ENVIRONMENTAL PROTECTION AGENCY

[ER-FRL-6644-8]

Environmental Impact Statements and Regulations; Availability of EPA Comments

Availability of EPA comments prepared pursuant to the Environmental Review Process (ERP), under Section 309 of the Clean Air Act and Section 102(2)(c) of the National Environmental Policy Act as amended. Requests for copies of EPA comments can be directed to the Office of Federal Activities at (202) 564-7167.

An explanation of the ratings assigned to draft environmental impact statements (EISs) was published in FR dated April 04, 2003 (68 FR 16511).

Draft EISs

ERP No. D-AFS-J61104-CO Rating EC2, Copper Mountain Resort Trails and Facilities Improvements, Implementation, Special Use Permit, White River National Forest, Dillon Ranger District, Summit County, CO.

Summary: EPA expressed environmental concerns regarding potential adverse impacts to water quality, stream function, wetlands and wildlife habitats. EPA requested additional information on snowmaking source water quality and on-mountain receiving water quality.

ERP No. D-COE-L59000-AK Rating EC2, King Cove Access Project, Provision of a Transportation System between the City of King Cove and the Cold Bay Airport, U.S. Army COE Section 10 and 404 Permits Issuance, Aleutians East Borough (AEB), Alaska Peninsula, AK.

Summary: EPA raised environmental concerns that all of the action alternatives would result in significant environmental impacts due to the dredging and filling of wetlands and the installation of bridges and culverts in anadromous fish streams. EPA also raised concerns that one of the proposed action alternatives would result in significant impacts on sanctuaries, refuges and wilderness areas.

ERP No. D-FHW-H40176-MO Rating EC2, US 40/61 Bridge Location Study Over the Missouri River, Improvement of the Transportation System, Section 9 of the Rivers and Harbor Act Permit, and U.S. Army COE Section 10 and 404 Permits, Missouri River, St. Charles and St. Louis Counties, MO.

Summary: EPA expressed environmental concerns regarding the design year level of service (LOS) rating of D for all build alternatives. EPA further commented on insufficient information regarding the roadway approaches to the bridge and impacts to the floodplain.

ERP No. D-FRC-B05193-CT Rating EC2, Housatonic River Hydroelectric Project, Application to Relicense Existing Licenses for Housatonic Project No. 2576-022 and the Falls Village Project No. 2597-019, Housatonic River Basin, Fairfield, New Haven and Litchfield Counties, CT.

Summary: EPA raised environmental concerns about the conditions associated with the FERC staff recommended alternative, flow and operational recommendations, and the mix of alternatives considered in the Draft EIS.

ERP No. D-FRC-E03011-FL Rating EC2, Tractebel Calypso Pipeline Project, Natural Gas Transportation Service for 832,000 dekatherms/day (Dth/day) to South Florida, Right-of-Way Grant and U.S. Army COE Section 10 and 404 Permits Issuance, Exclusive Economic Zone (EEZ) with the Bahamas, Fort Lauderdale, Broward County, FL.

Summary: EPA expressed environmental concerns about potential impacts to Florida nearshore corals/hardbottoms and seagrasses and the uncertainty of successful Horizontal Directional Drilling crossings. EPA requested an improved impact assessment for marine resources, a Marine Mitigation Plan, and agency coordination regarding expected use conflicts with the Port Everglades Ocean Dredged Material Disposal Site currently being designated by EPA.

ERP No. D-IBR-K39080-CA Rating EC2, Mendota Pool 10-Year Exchange Agreements, Water Provision to Irrigable Lands, Central Valley Project Improvement Act (CVPIA), Fresno and Madera Counties, CA.

Summary: EPA has environmental concerns with project contributions to groundwater and surface water quality degradation, groundwater overdraft, and subsidence; effects on actions to resolve agricultural drainage problems, and effects on efforts to provide a sustainable and reliable irrigation supply. EPA requested additional information regarding potential project impacts on the above issues. EPA urged consideration of limited land fallowing and other measures to improve irrigation water productivity to address the need for a more reliable irrigation supply.

ERP No. D-IBR-K64023-CA Rating LO, Battle Creek Salmon and Steelhead Restoration Project, Habitat Restoration in Battle Creek and Tributaries, License Amendment Issuance, Implementation, Tehama and Shasta Counties, CA.

Summary: EPA supports the restoration of fisheries habitat and has no objections to this project, provided mitigation measures and monitoring programs, as described in the draft EIS are implemented.

ERP No. D-IBR-K64024-CA Rating LO, Lower Santa Ynez River Fish Management Plan and Cachuma Project, Biological Opinion for Southern Steelhead Trout and Endangered Southern Steelhead Habitat Conditions Improvements, Santa Barbara County, CA.

Summary: EPA supports the restoration of fisheries habitat and has no objection to this project, provided mitigation measures and monitoring programs, as described in the draft EIS, are implemented.

ERP No. DS-FTA-C54007-NJ Rating EC2, Newark-Elizabeth Rail Link-Elizabeth Segment to Document the Social, Economic and Transportation Impact of the 5.8 mile Light Rail Transit (LRT) Alignment, Minimal Operable Segment 3 (MOS-3), City of Elizabeth, Union County, NJ.

Summary: EPA expressed environmental concerns due to wetlands impacts/mitigation and air quality impacts. EPA requested that the final EIS contain additional analysis for these issues and appropriate mitigation for the impacts.

ERP No. D1-FHW-F40361-MI Rating EC2, MI-59 Livingston County Widening Project between I-96 and U.S. 23, Practical Alternatives and a No Build Alternative for Consideration in the Right-of-Way Preservation Corridor, Funding, NPDES and U.S. Army COE Section 404 Permits Issuance, Livingston County, MI.

Summary: EPA expressed environmental concerns with the proposed project regarding wetland impacts, stormwater runoff, and invasive species control. EPA also commented on alternatives evaluation.

Final EISs

ERP No. F-AFS-L61218-ID, Frank Church—River of No Return Wilderness (FC-RONRW) Future Management of Land and Water Resources, Implementation, Bitterroot, Boise and Nez Perce, Payette and Salmon-Challis National Forests, ID.

Summary: No formal comment letter was sent to the preparing agency.

ERP No. F-AFS-L65376-OR, Silvies Canyon Watershed Restoration Project, Additional Information concerning Ecosystem Health Improvements in the Watershed, Grant and Harney Counties, OR.

Summary: No formal comment letter was sent to the preparing agency.

ERP No. F-AFS-L65414-ID, Middle Little Salmon Vegetation Management Project, Timber Stands Current Condition Improvements, Payette National Forest, New Meadows Ranger District, Adam County, ID.

Summary: No formal comment letter was sent to the preparing agency.

ERP No. F-FHW-D40295-WV, New River Parkway Project, Design, Construction and Management, between I-64 Interchanges to Hinton, Funding, Raleigh and Summers Counties, WV.

Summary: EPA has environmental concerns with the preferred alternative regarding the significant potential for secondary and cumulative impacts to the New River.

ERP No. F-FHW-J40160-ND, Liberty Memorial Bridge Replacement Project, Poor and Deteriorating Structural Rehabilitation or Reconstruction, U.S. Coast Guard and U.S. Army COE Section 10 and 404 Permits Issuance, Missouri River, Bismarck and Mandan, ND.

Summary: No formal comment letter was sent to the preparing agency.

ERP No. F-FTA-K40241-HI, Oahu Primary Corridor Transportation Project, Improvements from Kapolei in the west to the University of Hawaii-Manoa and Waikiki in the east, Funding, City and County of Honolulu.

Summary: No formal comment letter was sent to the preparing agency.

ERP No. F-JUS-K99007-CA 14-Mile Border Infrastructure System Completion along the United States and Mexico Border, Areas I, V and VI, Pacific Ocean to just east of Tin Can Hill, San Diego County, CA.

Summary: EPA raised continuing environmental objections with the proposed project because it could result in significant environmental degradation to waters of the United States. EPA continues to believe that additional opportunities may exist to avoid and reduce the project's adverse impacts to aquatic resources protected under the Clean Water Act Section 404 (CWA); and intends to work with the Department of Homeland Security and U.S. Army Corps of Engineers to identify such opportunities during the CWA Section 404 permit process.

ERP No. F-NOA-L91011-AK, Cook Inlet Beluga Whale Stock, Federal Actions Associated with the Management and Recovery, Implementation, Cook Inlet, AK.

Summary: No formal comment letter was sent to the preparing agency.

ERP No. FB-AFS-J65287-UT, Long Deer Vegetation Management Project, South Spruce Ecosystem Rehabilitation Project, Implementation, Dixie National Forest, Cedar City Ranger District, Iron and Kane Counties, UT.

Summary: EPA continues to express environmental concerns with the range of alternatives, ecosystem characterization and fuel loading, roads and habitat fragmentation. EPA recommended that the interactions between and goals of (1) reforestation, (2) fuel reduction and (3) aspen regeneration be considered.

Dated: October 21, 2003.
Ken Mittelholtz,
Environmental Protection Specialist, NEPA Compliance Division.

[FR Doc. 03-26932 Filed 10-23-03; 8:45 am]

BILLING CODE 6560-50-P